DEPARTMENT OF EDUCATION

Notice of Proposed Information Collection Requests; Correction

AGENCY: Department of Education.

ACTION: Correction notice.

SUMMARY: On April 25, 2002, a notice inviting comment from the public, was published for “Community Technology Centers Program Grant Notice Inviting Project Applications for One-Year Awards for Fiscal Year (FY) 2002” in the Federal Register (67 FR 20498). This notice was published erroneously and should be disregarded. The Leader, Regulatory Information Management, Office of the Chief Information Officer, hereby issues a correction notice as required by the Paperwork Reduction Act of 1995.

Dated: April 26, 2002.
John D. Tressler,
Leader, Regulatory Information Management Group, Office of the Chief Information Officer.

[FR Doc. 02-10751 Filed 4-30-02; 8:45 am]

BILLING CODE 4000-01-P